DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of four individuals and five entities whose property and interests in property have been blocked pursuant to the Foreign Narcotics Kingpin Designation Act (Kingpin Act) (21 U.S.C. 1901-1908, 8 U.S.C. 1182). In addition, OFAC is updating the identifying information for one individual who was previously identified pursuant to the Kingpin Act.

DATES: The designation by the Director of OFAC of the four individuals and five entities identified and one update in this notice pursuant to section 805(b) of the Kingpin Act is effective on March 24, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On March 24, 2015, the Director of OFAC designated the following four individuals and five entities whose property and interests in property are blocked pursuant to section 805(b) of the Kingpin Act.

Individuals

1. KELMENDI, Besnik (a.k.a. KELJMENDI, Besnik); DOB 30 Oct 1980; POB Pec, Kosovo; Passport 5661746 (Bosnia and Herzegovina) (individual) [SDNTK] (Linked To: N.P.T.T. DONA-SHELL).

2. KELMENDI, Donata, Pec (Peje), Kosovo; DOB 16 Sep 1992 (individual) [SDNTK] (Linked To: HOTEL CASA GRANDE-ULCINJ, MONTENEGRO).

3. KELMENDI, Elvis (a.k.a. KELJMENDI, Elvis), Pec, Kosovo; DOB 03 May 1978; POB Prizren, Kosovo; Personal ID Card 0305978934868 (Montenegro) (individual) [SDNTK].

4. KELMENDI, Liridon (a.k.a. KELJMENDI, Liridon); DOB 01 Jan 1983; POB Pec, Kosovo; Passport 5239319 (Bosnia and Herzegovina); alt. Passport 005452254 (Bosnia and Herzegovina) (individual) [SDNTK].

Entities

1. DONATA COMPANY D.O.O., Totosi B.B., Ulcinj, Montenegro; Company Number 50461890 [SDNTK].

2. HOTEL CASA GRANDE-SARAJEVO, BOSNIA AND HERZEGOVINA, Velika Aleja 2, Sarajevo 71000, Bosnia and Herzegovina [SDNTK].

3. HOTEL CASA GRANDE-ULCINJ, MONTENEGRO, Donji Stoj B.B., Ulcinj 85360, Montenegro; Web site www.casagrande-mne.com [SDNTK].

4. N.P.T.T. DONA-SHELL (a.k.a. DONASHELL; a.k.a. DONNA SHELL), Pec, Kosovo; Company Number 80386621 (Kosovo) [SDNTK].

5. PREDSTAVNISTVO CASAGRANDE EXPORT-IMPORT, 2 A Kosovska, Surcin 11271, Serbia; Company Number 29025576 [SDNTK].

In addition, OFAC has made updates to the record for the following individual previously designated pursuant to the Kingpin Act:

KELMENDI, Naser (a.k.a. KELJMENDI, Naser Meto), Edhema Eke Dzubura 20, Ilidza, Bosnia and Herzegovina; Velika Aleja Street, no. 2, Ilidza, Bosnia and Herzegovina; DOB 15 Feb 1957; POB Pec, Kosovo; citizen Bosnia and Herzegovina; Passport 4843868 (Bosnia and Herzegovina); National ID No. 1502957172694 (Bosnia and Herzegovina) (individual) [SDNTK]

The listing for this individual now appears as follows:

KELMENDI, Naser (a.k.a. KELJMENDI, Naser Meto), Edhema Eke Dzubura 20, Ilidza, Bosnia and Herzegovina; Velika Aleja Street, no. 2, Ilidza, Bosnia and Herzegovina; DOB 15 Feb 1957; POB Pec, Kosovo; citizen Bosnia and Herzegovina; Passport 4843868 (Bosnia and Herzegovina); National ID No. 1502957172694 (Bosnia and Herzegovina) (individual) [SDNTK] (Linked To: DONATA COMPANY D.O.O.; Linked To: N.P.T.T. DONA-SHELL; Linked To: HOTEL CASA GRANDE-SARAJEVO, BOSNIA AND HERZEGOVINA; Linked To: HOTEL CASA GRANDE-ULCINJ, MONTENEGRO; Linked To: PREDSTAVNISTVO CASAGRANDE EXPORT-IMPORT).

Dated: March 24, 2015.
John E. Smith,
Acting Director, Office of Foreign Assets Control.

[FR Doc. 2015-07635 Filed 4-1-15; 8:45 am]

BILLING CODE 4810-AL-P